DEPARTMENT OF TRANSPORTATION

Federal Aviation Administration

Notice of a Land Release Affecting the Federal Grant Assurance Obligations at Ryan Field Airport, Tucson, Pima County, Arizona

AGENCY: Federal Aviation Administration, DOT.

ACTION: Notice of a Land Release.

SUMMARY: The Federal Aviation Administration (FAA) proposes to rule and invites public comment on the application for a land release of approximately 5.12 acres of airport property, along with an easement over 2.09 acres, at Ryan Field Airport, Tucson, Pima County, Arizona from the airport use provisions of the Grant Agreement Assurances since the land is not needed for airport purposes. The property will be used by the Arizona Department of Transportation to widen State Route 86 that is located along the southern edge of the airport. The airport will be compensated for the fair market value of the released property. The use of the land for a roadway represents a compatible land use that will not interfere with the airport or its operation, thereby protecting the interests of civil aviation.

DATES: Comments must be received on or before June 1, 2015.

FOR FURTHER INFORMATION CONTACT: Comments on the request may be mailed or delivered to the FAA at the following address: Mike N. Williams, Manager, Airports District Office, Federal Register Comment, Federal Aviation Administration, Phoenix Airports District Office, 3800 N. Central Avenue, Suite 1025, Phoenix, Arizona 85012. In addition, one copy of the comment submitted to the FAA must be mailed or delivered to Tom Coyle, Director of Planning, Tucson Airport Authority, 7005 South Plumer Avenue, Tucson, Arizona 85756.

SUPPLEMENTARY INFORMATION: In accordance with the Wendell H. Ford Aviation Investment and Reform Act for the 21st Century (AIR 21), Public Law 106-181 (Apr. 5, 2000; 114 Stat. 61), this notice must be published in the Federal Register 30 days before the DOT Secretary may waive any condition imposed on a federally obligated airport by surplus property conveyance deeds or grant agreements.

The following is a brief overview of the request:

The Tucson Airport Authority (TAA) requested a release from the provisions of the Grant Agreement Assurances to permit the disposal of approximately 5.12 acres of land at Ryan Field Airport, Tucson, Pima County, Arizona to permit the construction of highway improvements to State Route 86 by the Arizona Department of Transportation. The highway that traverses the southern boundary of the airport from east to west will be widened to accommodate four lanes, thereby providing two lanes in each direction. The release will allow 5.12 acres of land to be conveyed to the State of Arizona, along with an easement for 2.09 acres over land not being conveyed in fee simple. In return, TAA will be compensated for the fair market value of the property subject to the release. Continued use of the land as an improved highway represents a compatible land use that will not interfere with or impede the operations and development of the airport. Based on the benefits of fair compensation in exchange for the land, the interests of civil aviation will be properly served.

Issued in Hawthorne, California, on April 23, 2015.
Brian Q. Armstrong,
Manager, Safety and Standards Branch, Airports Division, Western-Pacific Region.

[FR Doc. 2015-10097 Filed 4-29-15; 8:45 am]

BILLING CODE 4910-13-P